DEPARTMENT OF COMMERCE

International Trade Administration

[A-570-890]

Antidumping Duty Order on Wooden Bedroom Furniture From the People's Republic of China: Preliminary Results of Changed Circumstances Review

AGENCY: Enforcement and Compliance, International Trade Administration, Department of Commerce.

SUMMARY: The U.S. Department of Commerce (Commerce) preliminarily determines that Zhangzhou XMB Home Technology Co., Ltd (Zhangzhou XMB) is the successor-in-interest to Zhangzhou XYM Furniture Product Co., Ltd. (Zhangzhou XYM) for purposes of the antidumping duty (AD) order on wooden bedroom furniture (WBF) from the People's Republic of China (China). Accordingly, subject merchandise exported by Golden Well International (HK), Ltd. (Golden Well) and produced by Zhangzhou XMB should be assigned the same AD cash deposit rate as the AD cash deposit rate established for subject merchandise exported by Golden Well and produced by Zhangzhou XYM.

DATES: Applicable May 19, 2023.

FOR FURTHER INFORMATION CONTACT: Thomas Martin, AD/CVD Operations, Office IV, Enforcement and Compliance, International Trade Administration, U.S. Department of Commerce, 1401 Constitution Avenue NW, Washington, DC 20230; telephone: (202) 482-3936.

SUPPLEMENTARY INFORMATION:

Background

On October 5, 2022, Golden Well and Zhangzhou XMB notified Commerce that Zhangzhou XYM changed its name to Zhangzhou XMB and requested that Commerce conduct a changed circumstances review (CCR) to determine that Zhangzhou XMB is the successor-in-interest to Zhangzhou XYM.¹ On November 22, 2022, Commerce initiated this CCR ² of the AD order on WBF from China.³ We received no comments from interested parties subsequent to initiation.

¹ See Golden Well and Zhangzhou XMB's Letter, “Wooden Bedroom Furniture from the People's Republic of China; Request for Changed Circumstances Review (A-570-890),” dated October 5, 2022.

² See Wooden Bedroom Furniture from the People's Republic of China: Initiation of Antidumping Duty Changed Circumstances Review, 87 FR 71300 (November 22, 2022).

³ See Notice of Amended Final Determination of Sales at Less Than Fair Value and Antidumping Duty Order: Wooden Bedroom Furniture from the People's Republic of China, 70 FR 329 (January 4, 2005) (Order).

Scope of the Order

The merchandise covered by the Order is WBF. For a complete description of the scope of the Order, see the Preliminary Decision Memorandum.⁴

⁴ See Memorandum, “Wooden Bedroom Furniture from the People's Republic of China: Decision Memorandum for the Preliminary Results of the Changed Circumstances Review,” dated concurrently with, and hereby adopted by, this notice (Preliminary Decision Memorandum).

Legal Framework

In determining whether one company is the successor-in-interest to another company as part of an AD proceeding, Commerce examines several factors including, but not limited to: (1) management and ownership; (2) production facilities; (3) supplier relationships; and (4) customer base.⁵ Although no single, or combination of factors will necessarily provide a dispositive indication of successorship, generally, Commerce will consider one company to be the successor-in-interest to another company if its operations are not materially dissimilar to those of the other company.⁶ Thus, if the totality of the evidence demonstrates that, with respect to the production and sale of the subject merchandise, the new company operates as the same business entity as the prior company, Commerce will find the new company to be the successor-in-interest to the prior company.⁷

⁵ See, e.g., Stainless Steel Bar from Spain: Preliminary Results of Antidumping Duty Administrative Review; 2012-2013, 79 FR 22622 (April 23, 2014), and accompanying Preliminary Decision Memorandum at 2-3, unchanged in Stainless Steel Bar from Spain: Final Results of Antidumping Duty Administrative Review; 2012-2013, 79 FR 63081 (October 22, 2014).

⁶ See, e.g., Notice of Final Determination of Sales at Less Than Fair Value and Affirmative Final Determination of Critical Circumstances: Certain Orange Juice from Brazil, 71 FR 2183 (January 13, 2006).

⁷ See, e.g., Certain Pasta from Italy: Final Results of Changed Circumstances Review, 86 FR 24845 (May 10, 2021).

Preliminary Results of Review

We preliminarily determine that Zhangzhou XMB is the successor-in-interest to Zhangzhou XYM for purposes of the Order because Zhangzhou XMB's management and ownership, production facilities, supplier relationships, and customer base are the same, or substantially the same, as those of Zhangzhou XYM. For a complete successor-in-interest analysis, see the Preliminary Decision Memorandum. A list of topics discussed in the Preliminary Decision Memorandum is included as the appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Should our determination remain unchanged in the final results of this CCR, we will instruct U.S. Customs and Border Protection to require, effective as of the date of publication of the notice of the final results of this CCR in the Federal Register, an AD cash deposit of zero percent for subject merchandise exported by Golden Well and produced by Zhangzhou XMB. This is the AD cash deposit rate currently in effect for subject merchandise exported by Golden Well and produced by Zhangzhou XYM.

Public Comment

In accordance with 19 CFR 351.309(c)(1)(ii), interested parties may submit case briefs not later than 14 days after the date of publication of this notice in the Federal Register. Rebuttal briefs, limited to issues raised in the case briefs, may be filed no later than seven days after the due date for case briefs, in accordance with 19 CFR 351.309(d).⁸ Parties who submit case or rebuttal briefs are encouraged to submit with each argument: (1) a statement of the issue; (2) a brief summary of the argument; and (3) a table of authorities.⁹

⁸ Commerce is exercising its discretion under 19 CFR 351.309(d)(1) to alter the time limit for the filing of rebuttal briefs.

⁹ See 19 CFR 351.30(c)(2) and (d)(2).

All comments must be filed electronically via Enforcement and Compliance's Antidumping and Countervailing Duty Centralized Electronic Service System (ACCESS) and must be served on interested parties.¹⁰ Note that Commerce has temporarily modified certain of its requirements for serving documents containing business proprietary information, until further notice.¹¹ An electronically filed document must be received successfully in its entirety by ACCESS by 5:00 p.m. Eastern Time on the day on which it is due.

¹⁰ See generally 19 CFR 351.303.

¹¹ See Temporary Rule Modifying AD/CVD Service Requirements Due to COVID-19; Extension of Effective Period, 85 FR 41363 (July 10, 2020).

Pursuant to 19 CFR 351.310(c), any interested party may request a hearing within 14 days of publication of this notice in the Federal Register. Requests for a hearing should contain: (1) the requesting party's name, address, and telephone number; (2) the number of individuals associated with the requesting party that will attend the hearing and whether any of those individuals is a foreign national; and (3) a list of the issues the party intends to discuss at the hearing. Oral presentations at the hearing will be limited to issues raised in the briefs. If a request for a hearing is made, Commerce intends to hold the hearing at a time and date to be determined. Parties should confirm the date and the time of the hearing two days before the scheduled hearing date.

Final Results of Review

Consistent with 19 CFR 351.216(e), we intend to issue the final results of this CCR no later than 270 days after the date on which this review was initiated.

Notification to Interested Parties

The preliminary results of this CCR and this notice are published in accordance with sections 751(b)(1) and 777(i)(1) of the Act and 19 CFR 351.216 and 19 CFR 351.221(b)(4) and (c)(3).

Dated: May 12, 2023.
Lisa W. Wang,
Assistant Secretary for Enforcement and Compliance.

Appendix—List of Topics Discussed in the Preliminary Decision Memorandum

I. Summary

II. Background

III. Scope of the Order

IV. Successor-in-Interest Determination

V. Recommendation

[FR Doc. 2023-10725 Filed 5-18-23; 8:45 am]

BILLING CODE 3510-DS-P